DEPARTMENT OF DEFENSE

Office of the Secretary

[Docket ID DOD-2010-OS-0022]

Privacy Act of 1974; Systems of Records

AGENCY: Defense Logistics Agency, DoD.

ACTION: Notice to amend a system of records.

SUMMARY: The Defense Logistics Agency proposes to amend a system of records notice in its existing inventory of records systems subject to the Privacy Act of 1974, (5 U.S.C. 552a), as amended.

DATES: This proposed action will be effective without further notice on April 7, 2010 unless comments are received which result in a contrary determination.

ADDRESSES: You may submit comments, identified by docket number and title, by any of the following methods:

* Federal Rulemaking Portal: http://www.regulations.gov. Follow the instructions for submitting comments.

* Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Jody Sinkler at (703) 767-5045.

SUPPLEMENTARY INFORMATION: The Defense Logistics Agency systems of records notices subject to the Privacy Act of 1974, (5 U.S.C. 552a), as amended, have been published in the Federal Register and are available from the Chief Privacy and FOIA Officer, Headquarters Defense Logistics Agency, ATTN: DGA, 8725 John J. Kingman Road, Suite 1644, Fort Belvoir, VA 22060-6221.

The specific changes to the record system being amended are set forth below followed by the notice, as amended, published in its entirety. The proposed amendment is not within the purview of subsection (r) of the Privacy Act of 1974 (5 U.S.C. 552a), as amended, which requires the submission of new or altered systems reports.

Dated: March 2, 2010.
Mitchell S. Bryman,
Alternate OSD Federal Register Liaison Officer, Department of Defense.

S200.30 CAI

SYSTEM NAME:

Reserve Affairs (November 16, 2004; 69 FR 67112).

CHANGES:

SYSTEM IDENTIFIER:

Delete entry and replace with “S200.30.”

SYSTEM NAME:

Delete entry and replace with “Reserve Affairs Records Collection.”

SYSTEM LOCATION:

Delete entry and replace with “Director, J-9, Joint Reserve Forces, Headquarters, Defense Logistics Agency, 8725 John J. Kingman Road, Suite 3627 Fort Belvoir, VA 22060-6221, and the Heads of the DLA Primary Level Field Activities. Mailing addresses may be obtained from the system manager below.”

CATEGORIES OF INDIVIDUALS COVERED BY THE SYSTEM:

Delete entry and replace with “All Selected Reserve, Army, Marine Corps, Navy, and Air Force personnel assigned to Defense Logistics Agency (DLA) Reserve units and Individual Mobilization Augmentee (IMA) positions.”

CATEGORIES OF RECORDS IN THE SYSTEM:

Delete entry and replace with “The files contain full name, grade, Social Security Number (SSN), service, career specialty, position title, date of birth, commission date, promotion date, release date, medical/dental record information, benefits and allowances, pay records, security clearance, education, home address and civilian occupation of the individuals involved.”

AUTHORITY FOR MAINTENANCE OF THE SYSTEM:

Delete entry and replace with “10 U.S.C. Part II, Personnel Generally; 10 U.S.C. 133, Under Secretary of Defense for Acquisition, Technology, and Logistics; and E.O. 9397 (SSN), as amended.”

* * * * *

RETRIEVABILITY:

Delete entry and replace with “Retrieved by last name and Social Security Number (SSN).”

* * * * *

SYSTEM MANAGER(S) AND ADDRESS:

Delete entry and replace with “Director, J-9, Joint Reserve Forces, Headquarters, Defense Logistics Agency, 8725 John J. Kingman Road, Suite 3627, Fort Belvoir, VA 22060-6221 and the Heads of the DLA Primary Level Field Activities.”

NOTIFICATION PROCEDURE:

Delete entry and replace with “Individuals seeking to determine whether information about themselves is contained in this system should address written inquiries to the DLA Privacy Office, Headquarters, Defense Logistics Agency, ATTN: DGA, 8725 John J. Kingman Road, Suite 1644, Fort Belvoir, VA 22060-6221.

Inquiry should contain the individual's full name and Social Security Number (SSN).”

RECORD ACCESS PROCEDURES:

Delete entry and replace with “Individuals seeking access to information about themselves contained in this system should address written inquiries to the DLA Privacy Office, Headquarters, Defense Logistics Agency, ATTN: DGA, 8725 John J. Kingman Road, Suite 1644, Fort Belvoir, VA 22060-6221.

Inquiry should contain the individual's full name and Social Security Number (SSN).”

CONTESTING RECORD PROCEDURES:

Delete entry and replace with “The DLA rules for accessing records, for contesting contents, and appealing initial agency determinations are contained in 32 CFR part 323, or may be obtained from the system manager.”

* * * * *

S200.30

SYSTEM NAME:

Reserve Affairs Records Collection.

SYSTEM LOCATION:

Director, J-9, Joint Reserve Forces, Headquarters, Defense Logistics Agency, 8725 John J. Kingman Road, Suite 3627 Fort Belvoir, VA 22060-6221, and the Heads of the DLA Primary Level Field Activities. Mailing addresses may be obtained from the system manager below.

CATEGORIES OF INDIVIDUALS COVERED BY THE SYSTEM:

All Selected Reserve, Army, Marine Corps, Navy, and Air Force personnel assigned to Defense Logistics Agency (DLA) Reserve units and Individual Mobilization Augmentee (IMA) positions.

CATEGORIES OF RECORDS IN THE SYSTEM:

The files contain full name, grade, Social Security Number (SSN), service, career specialty, position title, date of birth, commission date, promotion date, release date, medical/dental record information, benefits and allowances, pay records, security clearance, education, home address and civilian occupation of the individuals involved.

AUTHORITY FOR MAINTENANCE OF THE SYSTEM:

10 U.S.C. Part II, Personnel Generally; 10 U.S.C. 133, Under Secretary of Defense for Acquisition, Technology, and Logistics; and E.O. 9397 (SSN), as amended.

PURPOSE(S):

The files are maintained to provide background information on individuals assigned to DLA and to document their assignment. Data is used in preparation of personnel actions such as reassignments, classification actions, promotions, scheduling, and verification of active duty and inactive duty training. The data is also used for management and statistical reports and studies.

ROUTINE USES OF RECORDS MAINTAINED IN THE SYSTEM, INCLUDING CATEGORIES OF USERS AND THE PURPOSES OF SUCH USES:

In addition to those disclosures generally permitted under 5 U.S.C. 552a(b) of the Privacy Act of 1974, these records may specifically be disclosed outside the DoD as a routine use pursuant to 5 U.S.C. 552a(b)(3) as follows:

The DoD “Blanket Routine Uses” apply to this system of records.

POLICIES AND PRACTICES FOR STORING, RETRIEVING, ACCESSING, RETAINING, AND DISPOSING OF RECORDS:

STORAGE:

Records may be stored on paper and on electronic storage media.

RETRIEVABILITY:

Retrieved by last name and Social Security Number (SSN).

SAFEGUARDS:

Records are maintained in areas accessible only to DLA personnel who must use the records to perform their duties. The computer files are password protected with access restricted to authorized users. Records are secured in locked or guarded buildings, locked office, or locked cabinets during non-duty hours.

RETENTION AND DISPOSAL:

Records are destroyed 2 years after separation or release from mobilization, or after supersession or obsolescence, or after 5 years, as applicable.

SYSTEM MANAGER(S) AND ADDRESS:

Director, J-9, Joint Reserve Forces, Headquarters, Defense Logistics Agency, 8725 John J. Kingman Road, Suite 3627, Fort Belvoir, VA 22060-6221 and the Heads of the DLA Primary Level Field Activities.

NOTIFICATION PROCEDURE:

Individuals seeking to determine whether information about themselves is contained in this system should address written inquiries to the DLA Privacy Office, Headquarters, Defense Logistics Agency, ATTN: DGA, 8725 John J. Kingman Road, Suite 1644, Fort Belvoir, VA 22060-6221.

Inquiry should contain the individual's full name and Social Security Number (SSN).

RECORD ACCESS PROCEDURES:

Individuals seeking access to information about themselves contained in this system should address written inquiries to the DLA Privacy Office, Headquarters, Defense Logistics Agency, ATTN: DGA, 8725 John J. Kingman Road, Suite 1644, Fort Belvoir, VA 22060-6221.

Inquiry should contain the individual's full name and Social Security Number (SSN).

CONTESTING RECORD PROCEDURES:

The DLA rules for accessing records, for contesting contents, and appealing initial agency determinations are contained in 32 CFR part 323, or may be obtained from the system manager.

RECORD SOURCE CATEGORIES:

Data is provided by the subject individual and their Military Service.

EXEMPTIONS CLAIMED FOR THE SYSTEM:

None.

[FR Doc. 2010-4822 Filed 3-5-10; 8:45 am]

BILLING CODE 5001-06-P